DEPARTMENT OF COMMERCE

International Trade Administration

(A-122-822)

Certain Corrosion-Resistant Carbon Steel Flat Products from Canada: Notice of Rescission of Antidumping Duty Administrative Review

AGENCY: Import Administration, International Trade Administration, U.S. Department of Commerce.

EFFECTIVE DATE: January 17, 2007.

FOR FURTHER INFORMATION CONTACT: Douglas Kirby or Myrna Lobo, AD/CVD Operations, Office 6, Import Administration, International Trade Administration, U.S. Department of Commerce, 14th Street and Constitution Avenue, NW, Washington DC 20230; telephone: (202) 482-3782 or (202) 482-2371, respectively.

SUPPLEMENTARY INFORMATION:

Background

On August 1, 2006, the Department of Commerce (“the Department”) published a notice of opportunity to request an administrative review of the antidumping duty order on Corrosion-Resistant Carbon Steel Flat Products from Canada. See Antidumping or Countervailing Duty Order, Finding, or Suspended Investigation; Opportunity to Request Administrative Review, 71 FR 43441 (August 1, 2006). On August 30, 2006, Stelco Inc. (Stelco) timely requested that the Department conduct an administrative review of Stelco. On August 31, 2006, U.S. Steel (petitioner), timely requested that the Department conduct an administrative review of Dofasco Inc., Sorevco Inc., and Do Sol Galva., Partnership (hereinafter referred to as Dofasco), and Stelco. Shortly thereafter, the Department published a notice of the initiation of the antidumping duty administrative review of Corrosion-Resistant Carbon Steel Flat Products from Canada for the period August 1, 2005 through July 31, 2006. See Initiation of Antidumping and Countervailing Duty Administrative Reviews, 71 FR 57465 (September 29, 2006). On December 28, 2006, petitioner withdrew its request for this administrative review with respect to respondents Dofasco and Stelco; on January 3, 2006, Stelco withdrew its request for an administrative review. Dofasco did not request an administrative review for this period.

Rescission of Review

The Department's regulations at section 351.213(d)(1) provide that the Department will rescind an administrative review if the party that requested the review withdraws its request for review within 90 days of the date of publication of the notice of initiation of the requested review, or withdraws its request at a later date if the Department determines that it is reasonable to extend the time limit for withdrawing the request. Petitioner submitted its request for withdrawal for Dofasco and Stelco in a timely manner. In addition, although Stelco withdrew its request after the 90-day deadline, the Department finds it reasonable to extend the withdrawal deadline for Stelco because the Department has not yet devoted any significant time and resources to this review. Furthermore, we find that Stelco's withdrawal does not constitute an abuse of our procedures. Therefore, the Department is rescinding the administrative review of the antidumping duty order on Corrosion-Resistant Carbon Steel Flat Products from Canada for the period August 1, 2005 through July 31, 2006. The Department intends to issue assessment instructions to U.S. Customs and Border Protection 41 days after the date of publication of this rescission of administrative review. See section 356.8(a) of the Department's regulations.

Notification Regarding APOs

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: January 9, 2007.
Stephen J. Claeys,
Deputy Assistant Secretary for Import Administration.

[FR Doc. E7-530 Filed 1-16-03; 8:45 am]

BILLING CODE 3510-DS-S